DEPARTMENT OF TRANSPORTATION

Federal Aviation Administration

Intent To Prepare an Environmental Impact Statement and Hold Scoping Meetings for a Replacement General Aviation Airport at Mesquite, NV

AGENCY: Federal Aviation Administration, DOT.

ACTION: Notice to hold one (1) public scoping meeting and one (1) Governmental/Public Agency scoping meeting.

SUMMARY: The Federal Aviation Administration (FAA) is issuing this notice to advise the public that an Environmental Impact Statement will be prepared for the proposed release of federal grant-in-aid obligations for the existing Mesquite Airport and development of a replacement general aviation airport for Mesquite, Nevada at another site. To ensure that all significant issues related to the proposed action are identified, one (1) public scoping meeting and one (1) governmental and public agency scoping meeting will be held.

FOR FURTHER INFORMATION CONTACT: Barry Franklin, Environmental Protection Specialist, San Francisco Airports District Office, Federal Aviation Administration, Western-Pacific Region, 831 Mitten Road, Burlingame, California, 94010; Telephone (650) 876-2778, extension 614. Comments on the scope of the EIS should be submitted to the address above and must be received no later than 5 p.m. Pacific Standard Time, February 20, 2005.

SUPPLEMENTARY INFORMATION: The Federal Aviation Administration (FAA) will prepare an Environmental Impact Stateament for proposed release of federal grant-in-aid obligations at the existing Mesquite Airport and development of a replacement general aviation airport. The need to prepare an Environmental Impact Statement (EIS) is based on the procedures described in FAA Order 5050.4A, Airport Environmental Handbook, information that indicates the site of the proposed replacement airport may contain desert tortoise (a federal listed species) and the proposed replacement airport development is likely to be controversial on environmental grounds.

The city of Mesquite, as owner and operator of Mesquite Airport, has determined I would like to use the existing airport site for another land use and proposes to construct a replacement general aviation airport on Mormon Mesa to continue to provide access to the national air transportation system. The proposed federal actions are to release the city from its federal grant-in-aid obligations at the existing airport and approve the Airport Layout Plan for the replacement airport. The existing Mesquite Airport was constructed in 1990. The city proposes to construct the replacement airport without the use of federal funds and transfer the existing grant-in-aid obligations in the replacement airport site. The land proposed for the replacement airport has been made available to the city of Mesquite through The Mesquite Lands Act of 1999, as amended. The Lead Agency for the preparation of the EIS is the Federal Aviation Administration. The FAA proposes to evalaute the following development alternatives and the No Action Alternative in the EIS as described below.

Alternative One: Construct Replacement General Aviation Airport at Mormon Mesa

• Redevelop the existing airport site for a non-aviation use.

• Acquisition of approximately 2622 acres of land to accommodate the proposed replacement airport, airport access road and Runway Protection Zones.

• Site preparation, grading and drainage for a replacement airport including a new runway not less than 5,100 feet long by 75-feet wide and associated parallel taxiway system and aircraft parking apron, access road and other associated facilities.

• Paving, lighting, and marking of the runway, taxiways, aircraft parking apron, access road.

• Installation of utilities necessary to operate the airport.

• Installation of navigational aids.

• Development of appropriate instrument flight procedures for the replacement airport.

Alternative Two: Construct the Replacement Airport in a Different Location

This alternative includes all the features of Alternative 1.

Alternative Three: Expand the Existing Airport

Under this alternative, the existing airport, constructed on top of a mesa, would be expanded to the fullest extent possible to accommodate continued general aviation aircraft operations.

Alternative Four: No action Alternative

Under the alternative the existing airport would be retained with no improvements. The city would not change the land use of the existing airport and a replacement airport would not be constructed.

Comments and suggestions are invited from Federal, State and local agencies, and other interested parties to ensure that the full range of issues related to these proposed projects are addressed and all significant issues are identified. Written comments and suggestions concerning the scope of the EIS may be mailed to the FAA informational contact listed above and must be received no later than 5 p.m. Pacific Standard Time, February 20, 2005.

Public Scoping Meeting: The FAA will hold one (1) public and one (1) governmental agency scoping meeting to solicit input from the public and various Federal, State and local agencies having jurisdiction by law or having specific expertise with respect to any environmental impacts associated with the proposed projects. The public scoping meeting will be held on Thursday, January 20, 2005, at the Mesquite City Hall, 10 East Mesquite Boulevard, Mesquite, Nevada 89027. The meeting will be held from 5 p.m. to 8 p.m. Pacific Standard Time (PST). A scoping meeting will be held specifically for governmental and public agencies the same day from 1 p.m. to 3 (PST) in the same location as the public scoping meeting.

Issued in Hawthorne, California, on December 1, 2004.
Mark A. McClardy,
Manager, Airports Division, Western—Pacific Region, AWP-600.

[FR Doc. 04-26981 Filed 12-7-04; 8:45 am]

BILLING CODE 4910-13-M